DEPARTMENT OF LABOR

Employment and Training Administration

[TA-W-59,229]

Master Products, Wabash, IN; Notice of Termination of Investigation

Pursuant to section 221 of the Trade Act of 1974, as amended, an investigation was initiated on April 18, 2006 in response to a worker petition filed by a California one stop operator on behalf of workers at Master Products, Wabash, Indiana.

The petitioner has requested that the petition be withdrawn. Consequently, the investigation has been terminated.

Signed at Washington, DC, this 25th day of April 2006.
Richard Church,
Certifying Officer, Division of Trade Adjustment Assistance.

[FR Doc. E6-7128 Filed 5-9-06; 8:45 am]

BILLING CODE 4510-30-P